DEPARTMENT OF HOUSING AND URBAN DEVELOPMENT

[Docket No. FR-5758-N-09]

60-Day Notice of Proposed Information Collection: Evaluation of the Rental Assistance Demonstration Program, Phase I

AGENCY: Office of Policy Development and Research, HUD.

ACTION: Notice of proposed information collection.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 25, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Evaluation of the Rental Assistance Demonstration Program, Phase I.

OMB Approval Number: N/A.

Type of Request: New.

Form Number: N/A.

Description of the need for the information and proposed use: The Rental Assistance Demonstration program (RAD) was established in 2012 to stem the loss of public housing units and other subsidized housing arising from a backlog of capital needs. The program helps to convert at-risk public housing properties to two different forms of project-based Section 8 Housing Assistance Payments (HAP) contracts—either project-based voucher (PBV) or project-based rental assistance (PBRA)—giving public housing authorities (PHAs) more flexibility to access private and public funding sources, easing their reliance on unpredictable appropriations. The RAD authorizing statute requires HUD to assess the impact of the program on: (1) The preservation and improvement of former public housing units, (2) the amount of private capital leveraged as a result of such conversions, and (3) the effect of conversion on residents. The evaluation is designed to examine the resources available to improve the physical conditions of a public housing property, what new opportunities RAD creates for PHAs to improve public housing physical conditions, and how it helps PHAs preserve those units over the long term. To examine whether the stated HUD and PHA objectives are achieved, HUD will be collecting quantitative and qualitative data from primary and secondary sources and analyzing data related to the following: (1) The physical and financial conditions of 24 RAD properties selected for the study and 48 non-RAD properties selected for comparison; (2) the implementation of the program, including the capital needs and amount of private funding leveraged; and (3) the experience with, and effect on, residents.

At this time, funding is available to fund only the first two components of the evaluation, thus, this request for OMB clearance only covers the “first phase” of the evaluation—(1) an assessment of the baseline conditions of RAD properties chosen for study and the baseline conditions of the comparison non-RAD properties, and (2) an assessment of the initial RAD financing, and the implementation phase of the RAD program. The request also includes a tracking form for the resident study that will be completed as a second phase of the evaluation, should funding be made available.

Respondents: PHAs and PHA tenants.

Form | Respondent sample | Number of respondents | Average time to complete (minimum, maximum) in minutes | Frequency | Total burden (hours)
Physical and Financial Conditions Survey Implementation Survey Resident Intake Study Correspondence and Intake Form | PHAs (n=72 PHAs; 24 PHAs implementing RAD, 48 PHAs not implementing RAD PHAs, stakeholder, implementation consultants, project managers (n=100) Tenants of RAD PHAs (n=400) | 72 | 60 (50-70) | 1 | 72
Implementation Survey | PHAs, stakeholder, implementation consultants, project managers (n=100) | 199 | 60 (50-70) | 1 | 100
Resident Intake Study Correspondence and Intake Form | Tenants of RAD PHAs (n=400) | 400 | 10 (8-12) | 1 | 67
Total Burden Hours |  |  |  |  | 239

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

Authority: Section 3507 of the Paperwork Reduction Act of 1995, 44 U.S.C. Chapter 35.

Dated: June 18, 2014.
Katherine M. O'Regan,
Assistant Secretary, Office of Policy Development and Research.

[FR Doc. 2014-14840 Filed 6-24-14; 8:45 am]

BILLING CODE 4210-67-P